DEPARTMENT OF COMMERCE

International Trade Administration

Purdue University et al.; Notice of Consolidated Decision on Applications for Duty-Free Entry of Electron Microscope

This is a decision consolidated pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3720, U.S. Department of Commerce, 14th and Constitution Avenue NW., Washington, DC.

Docket Number: 12-060. Applicant: Vanderbilt University, Nashville, TN 37235. Instrument: Electron Microscope. Manufacturer: FEI Company, the Netherlands. Intended Use: See notice at 78 FR 2659, January 14, 2013.

Docket Number: 12-061. Applicant: Purdue University, West Lafayette, IN 47907-2024. Instrument: Electron Microscope. Manufacturer: FEI Company, the Netherlands. Intended Use: See notice at 78 FR 2659, January 14, 2013.

Docket Number: 12-067. Applicant: University of Pennsylvania, Philadelphia, PA 19104. Instrument: Electron Microscope. Manufacturer: JEOL Ltd., Japan. Intended Use: See notice at 78 FR 2659, January 14, 2013.

Docket Number: 12-068. Applicant: National Center for Toxicological Research, USFDA, Jefferson, AK 72079. Instrument: Electron Microscope. Manufacturer: Carl Zeiss, Germany. Intended Use: See notice at 78 FR 2659, January 14, 2013.

Docket Number: 12-069. Applicant: Temple University, Philadelphia, PA 19122. Instrument: Electron Microscope. Manufacturer: FEI Company, Czech Republic. Intended Use: See notice at 78 FR 2659, January 14, 2013.

Comments: None received. Decision: Approved. No instrument of equivalent scientific value to the foreign instrument, for such purposes as this instrument is intended to be used, is being manufactured in the United States at the time the instrument was ordered. Reasons: Each foreign instrument is an electron microscope and is intended for research or scientific educational uses requiring an electron microscope. We know of no electron microscope, or any other instrument suited to these purposes, which was being manufactured in the United States at the time of order of each instrument.

Dated: March 28, 2013.
Gregory W. Campbell,
Director, Subsidies Enforcement Office, Import Administration.

[FR Doc. 2013-07871 Filed 4-3-13; 8:45 am]

BILLING CODE 3510-DS-P